DEPARTMENT OF HEALTH AND HUMAN SERVICES

Health Resources and Services Administration

Advisory Committee on Training in Primary Care Medicine and Dentistry; Notice of Meeting

In accordance with section 10(a)(2) of the Federal Advisory Committee Act (Public Law 92-463), notice is hereby given of the following meeting:

Name: Advisory Committee on Training in Primary Care Medicine and Dentistry.

Dates and Times: October 21, 2004, 8:15 a.m.-4:30 p.m., October 22, 2004, 8 a.m.-2 p.m.

Place: The Hilton in Gaithersburg, 620 Perry Parkway, Gaithersburg, Maryland 20877.

Status: The meeting will be open to the public.

Purpose: The Advisory Committee provides advice and recommendations on a broad range of issues dealing with programs and activities authorized under section 747 of the Public Health Service Act as amended by The Health Professions Education Partnership Act of 1998, Public Law 105-392. At this meeting the Advisory Committee will work on its draft fifth report which will be submitted to Congress and the Secretary of the Department of Health and Human Services in November 2005 and which focuses on measuring outcomes of Title VII, section 747 grant programs.

Agenda: The meeting on Thursday, October 21, will begin with opening comments from the Chair of the Advisory Committee. A plenary session will follow in which Advisory Committee members will hear speakers address the topic of outcomes measurement from various perspectives. The Advisory Committee will work on its fifth report, both in plenary session and in smaller workgroups. An opportunity will be provided for public comment.

On Friday, October 22, the Advisory Committee will continue work on the report. An opportunity will be provided for public comment.

For Further Information Contact: Anyone interested in obtaining a roster of members or other relevant information should write or contact Jerilyn K. Glass, M.D., Ph.D., Division of Medicine and Dentistry, Bureau of Health Professions, Health Resources and Services Administration, Room 9A-27, Parklawn Building, 5600 Fishers Lane, Rockville, Maryland 20857, Telephone (301) 443-6326. The web address for information on the Advisory Committee is http://bhpr.hrsa.gov/medicine-dentistry/actpcmd.

Dated: September 27, 2004.
Tina M. Cheatham,
Director, Division of Policy Review and Coordination.

[FR Doc. 04-22184 Filed 10-1-04; 8:45 am]

BILLING CODE 4165-15-P